DEPARTMENT OF COMMERCE

International Trade Administration

[A-549-817]

Certain Hot-Rolled Carbon Steel Flat Products from Thailand: Final Results of Antidumping Duty Changed Circumstances Review and Reinstatement in the Antidumping Duty Order

AGENCY: Import Administration, International Trade Administration, Department of Commerce

SUMMARY: On December 30, 2008, the Department of Commerce (“the Department”) published the preliminary results of the changed circumstances review and intent to reinstate Sahaviriya Steel Industries Public Company Limited (“SSI”) in the antidumping duty order (“the order”) on certain hot-rolled carbon steel flat products (“hot-rolled steel”) from the Kingdom of Thailand (“Thailand”). See Certain Hot-Rolled Carbon Steel Flat Products from Thailand: Preliminary Results of Changed Circumstances Review and Intent To Reinstate Sahaviriya Steel Industries Public Company Limited in the Antidumping Duty Order, 73 FR 79809 (December 30, 2008) (“Preliminary Results”). On October 29, 2008, we extended the time limit for completion of this changed circumstances review until April 22, 2009. See Certain Hot-Rolled Carbon Steel Flat Products from Thailand: Extension of Time Limit for Final Results of Changed Circumstances Review, 73 FR 64303 (October 29, 2008) (“First Extension Notice”). On April 29, 2009, we extended the date for the final results of this review by 15 days. See Certain Hot-Rolled Carbon Steel Flat Products from Thailand: Extension of Time Limit for Final Results of Changed Circumstances Review, 74 FR 19524 (April 29, 2009).This review covers subject merchandise manufactured and exported by SSI. The product covered by this order is hot-rolled steel from Thailand (see “Scope of the Order” section below). The period of review (“POR”) is July 1, 2006, through June 30, 2007. Based on our analysis of the comments received, we have made changes to the margin calculation. Therefore, the final results differ from the preliminary results. However, we continue to determine that SSI sold subject merchandise at less than normal value (“NV”) during the POR, and hereby reinstate SSI in the order. The final weighted-average dumping margin is listed below in the section entitled “Final Results of Review.”

EFFECTIVE DATE: May 15, 2009.

FOR FURTHER INFORMATION CONTACT: John K. Drury or Angelica Mendoza, AD/CVD Operations, Office 7, Import Administration, International Trade Administration, U.S. Department of Commerce, 14th Street and Constitution Avenue, N.W., Washington, DC 20230; telephone: (202) 482-0195 or (202) 482-3019, respectively.

SUPPLEMENTARY INFORMATION:

Background

On December 30, 2008, the Department published in the Federal Register the preliminary results of this changed circumstances review and intent to reinstate SSI in the antidumping order on hot-rolled steel from Thailand. See Preliminary Results. This review covers sales of subject merchandise by SSI. The POR is July 1, 2006, through June 30, 2007.

On December 10, 2008, we issued a notice correcting an error in the First Extension Notice. See Certain Hot-Rolled Carbon Steel Flat Products from Thailand: Correction to Notice of Extension of Time Limit for Final Results of Changed Circumstances Review, 73 FR 75079 (December 10, 2008). On February 5, 2009, the Department issued a notice correcting an error in the Preliminary Results. See Certain Hot-Rolled Carbon Steel Flat Products from Thailand: Correction to Preliminary Results of Changed Circumstances Review and Intent To Reinstate Sahaviriya Steel Industries Public Company Limited in the Antidumping Duty Order, 74 FR 6136 (February 5, 2009).

We invited interested parties to comment on the preliminary results of review. On February 4, 2009, we received comments from SSI, U.S. Steel Corporation (“petitioner”), and interested party Nucor Corporation (“Nucor”). On February 11, 2009, SSI, petitioner and Nucor filed rebuttal comments. At the request of SSI, we held a hearing on this changed circumstances review on February 19, 2009. The Department has conducted this changed circumstances review in accordance with section 751(b) of the Tariff Act of 1930, as amended (“the Act”).

Scope of the Order

For purposes of the order, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of the order.

Specifically included within the scope of the order are vacuum degassed, fully stabilized (commonly referred to as interstitial-free (“IF”)) steels, high strength low alloy (“HSLA”) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of the order, regardless of definitions in the Harmonized Tariff Schedule of the United States (“HTSUS”), are products in which: i) iron predominates, by weight, over each of the other contained elements; ii) the carbon content is 2 percent or less, by weight; and iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of the order unless otherwise excluded.

The following products, by way of example, are outside or specifically excluded from the scope of the order:

-Alloy hot-rolled steel products in which at least one of the chemical elements exceeds those listed above (including, e.g., American Society for Testing and Materials (“ASTM”) specifications A543, A387, A514, A517, A506).

-Society of Automotive Engineers (“SAE”)/American Iron & Steel Institute (“AISI”) grades of series 2300 and higher.

-Ball bearing steels, as defined in the HTSUS.

-Tool steels, as defined in the HTSUS.

-Silico-manganese (as defined in the HTSUS) or silicon electrical steel with a silicon level exceeding 2.25 percent.

-ASTM specifications A710 and A736.

-USS abrasion-resistant steels (USS AR 400, USS AR 500).

-All products (proprietary or otherwise) based on an alloy ASTM specification (sample specifications: ASTM A506, A507).

-Non-rectangular shapes, not in coils, which are the result of having been processed by cutting or stamping and which have assumed the character of articles or products classified outside chapter 72 of the HTSUS.

The merchandise subject to the order is currently classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90.

Certain hot-rolled carbon steel flat products covered by the order, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.01.80. Subject merchandise may also enter under 7210.70.30.00, 7210.90.90.00, 7211.14.00.30, 7212.40.10.00, 7212.40.50.00, and 7212.50.00.00. Although the HTSUS subheadings are provided for convenience and customs purposes, the written description of the merchandise is dispositive.

Analysis of Comments Received

All issues raised in the case and rebuttal briefs submitted by SSI, petitioner, and Nucor are addressed in the “Issues and Decision Memorandum” (“Decision Memorandum”) from John M. Andersen, Acting Deputy Assistant Secretary for Antidumping and Countervailing Duty Operations, to Ronald K. Lorentzen, Acting Assistant Secretary for Import Administration, dated May 7, 2009, which is adopted by this notice. A list of issues which parties have raised is in the Decision Memorandum and is attached to this notice as an appendix. Parties can find a complete discussion of all issues raised in this review and the corresponding recommendations in the Decision Memorandum which is on file in the Central Records Unit, Room 1117, of the main Commerce Building. In addition, a complete version of the Decision Memorandum can be accessed directly on the Web at http://www.ia.ita.doc.gov/frn. The paper copy and the electronic version of the Decision Memorandum are identical in content.

Changes Since the Preliminary Results

Based on our analysis of the comments received, we have made certain changes to the margin calculations. These changes are discussed in the relevant sections of the Decision Memorandum and the Memorandum to the File from John K. Drury, Analysis Memorandum for the Final Results of Changed Circumstances Review of Certain Hot-Rolled Carbon Steel Flat Products from Thailand: Sahaviriya Steel Industries Public Co., Ltd. (“SSI”), dated May 7, 2009, (“Analysis Memorandum”). Specifically, for these final results:

1) We adjusted the reported warranty expenses dividing the sum of three years of warranty expenses by the sum of total sales during the same three-year period. We multiplied the result by the gross unit price and applied the result to all home market sales.

2) We have used SSI's reported cost of goods sold, rather than the cost adjusted for cost of manufacture.

3) We corrected a clerical error in the arm's-length portion of the Department's SAS program.

Final Results of Review

We determine that the following weighted-average margin percentage exists for the period July 1, 2006, through June 30, 2007:

Manufacturer / Exporter | Margin
Sahaviriya Steel Industries Public Company Limited | 9.04 percent

Since we have established that hot-rolled steel from Thailand manufactured and exported by SSI is being sold at less than NV, SSI is hereby reinstated in the antidumping duty order effective upon the publication date of this notice. We will advise U.S. Customs and Border Protection to collect a cash deposit equal to the margin listed above on all entries of the subject merchandise produced by SSI that are entered, or withdrawn from warehouse, for consumption on or after the publication date of these final results. This requirement shall remain in effect until publication of the final results of the next administrative review as to SSI. There are no changes to the rates applicable to any other companies under this antidumping duty order.

Notification to Interested Parties

The Department will disclose calculations performed in connection with the final results of review within five days of the date of publication of this notice in accordance with 19 C.F.R. 351.224(b).

This notice also serves as a reminder to parties subject to administrative protective orders (“APO”) of their responsibility concerning the disposition of proprietary information disclosed under APO in accordance with 19 CFR 351.305(a)(3). Timely written notification of the return/disposition of APO materials or conversion to judicial protective order is hereby requested. Failure to comply with the regulations and the terms of an APO is a sanctionable violation.

We are issuing and publishing this determination in accordance with section 751(b)(1) of the Act and 19 CFR 351.216.

Dated: May 7, 2009.
Ronald K. Lorentzen,
Acting Assistant Secretary for Import Administration.

Appendix Comments in Decision Memo

1. The Department's Authority to Conduct the Changed Circumstances Review

2. Date of Sale for U.S. Sales

3. Segment Methodology

4. Warranty Expenses

5. Affiliated Transportation Expenses

6. Use of Cost of Goods Sold

7. General and Administrative (“G&A”) and Financial Expense Ratio Denominators

8. G&A Expense Ratio

9. Affiliated Party Inputs

10. Direct Materials Cost

11. Clerical Error

[FR Doc. E9-11420 Filed 5-14-09; 8:45 am]

BILLING CODE 3510-DS-S